OFFICE OF GOVERNMENT ETHICS

Proposed Collection; Comment Request For Modified OGE Form 201 Ethics Act Access Form

Correction

In notice document 05-21834 beginning on page 66437 in the issue of Wednesday, November 2, 2005, make the following correction:

On page 66437, in the second column, under the DATES heading, in the third and fourth lines “January 17, 2005” should read “January 17, 2006.”

[FR Doc. C5-21834 Filed 11-4-05; 8:45 am]

BILLING CODE 1505-01-D

DEPARTMENT OF TRANSPORTATION

Maritime Administration

Marine War Risk Insurance; Transportation Secretary's Authorities Extension

Correction

In notice document 05-21853 appearing on page 66484 in the issue of Wednesday, November 2, 2005, make the following correction:

On page 66484, in the second column, under the SUMMARY heading, in the third paragraph, in the fifth line, “December 13, 2005” should read “December 13, 2004”.

[FR Doc. C5-21853 Filed 11-4-05; 8:45 am]

BILLING CODE 1505-01-D